DEPARTMENT OF THE INTERIOR

National Park Service

[NPS-SER-BICY-1220-9207; 5120-SZM]

Meetings of the Big Cypress National Preserve Off-Road Vehicle Advisory Committee

AGENCY: Department of the Interior, National Park Service, Off-road Vehicle (ORV) Advisory Committee.

ACTION: Notice of meetings.

SUMMARY: In accordance with the Federal Advisory Committee Act (Pub. L. 92-463, 86 Stat. 770, 5 U.S.C. App 1, 10), notice is hereby given of the meetings of the Big Cypress National Preserve ORV Advisory Committee for 2012.

DATES: The Committee will meet on the following dates:

Thursday, February 16, 2012, 3:30-8 p.m.

Tuesday, May 15, 2012, 3:30-8 p.m.

Thursday, August 30, 2012, 3:30-8 p.m.

Wednesday, November 7, 2012, 3:30-8 p.m.

ADDRESSES: All meetings will be held at the Big Cypress Swamp Welcome Center, 33000 Tamiami Trail East, Ochopee, Florida. Written comments and requests for agenda items may be submitted electronically on the Web site http://www.nps.gov/bicy/parkmgmt/orv-advisory-committee.htm. Alternatively, comments and requests may be sent to: Superintendent, Big Cypress National Preserve, 33100 Tamiami Trail East, Ochopee, FL 34141-1000, Attn: ORV Advisory Committee.

FOR FURTHER INFORMATION CONTACT: Pedro Ramos, Superintendent, Big Cypress National Preserve, 33100 Tamiami Trail East, Ochopee, Florida 34141-1000; (239) 695-1103, or go to the Web site http://parkplanning.nps.gov/projectHome.cfm?parkId=352&projectId=20437.

SUPPLEMENTARY INFORMATION: The Committee was established (Federal Register, August 1, 2007, pp. 42108-42109) pursuant to the Preserve's 2000 Recreational Off-road Vehicle Management Plan and the Federal Advisory Committee Act of 1972 (5 U.S.C. Appendix) to examine issues and make recommendations regarding the management of off-road vehicles (ORVs) in the Preserve. The agendas for these meetings will be published by press release and on the http://parkplanning.nps.gov/projectHome.cfm?parkId=352&projectId=20437 Web site. The meetings will be open to the public, and time will be reserved for public comment. Oral comments will be summarized for the record. If you wish to have your comments recorded verbatim, you must submit them in writing. Before including your address, phone number, email address, or other personal identifying information in your comment, you should be aware that your entire comment—including your personal identifying information—may be made publicly available at any time. While you can ask us in your comment to withhold your personal identifying information from public review, we cannot guarantee that we will be able to do so.

Pedro Ramos,
Superintendent, Big Cypress National Preserve.

[FR Doc. 2012-2873 Filed 2-7-12; 8:45 am]

BILLING CODE 4310-V6-P